SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 12, 2010.

ADDRESSES: Send all comments regarding whether these information collections are necessary for the proper performance of the function of the agency, whether the burden estimates are accurate, and if there are ways to minimize the estimated burden and enhance the quality of the collections, to Carol Fendler, System Accountant, Office of Investment, Small Business Administration, 409 3rd Street, 6th Floor, Washington, DC 20416.

FOR FURTHER INFORMATION CONTACT: Carol Fendler, Office of Investment, 202-205-7559 carol.fendler@sba.gov; Curtis B. Rich, Management Analyst, 202-205-7030 curtis.rich@sba.gov.

SUPPLEMENTARY INFORMATION: The information collected by SBA Form 480 is a certification of small business size status. This information collection is used to ensure that SBIC financial assistance is provided only to small business concerns as defined in the Small Business Investment Act and SBA size regulations. Without this certification, larger businesses that do not conform to SBA's size standards could benefit from program resources meant for small businesses.

Title: “Size Standards Declaration.”

Description of Respondents: On Occasion.

Form Number: 480.

Annual Responses: 3,200.

Annual Burden: 533.

SUPPLEMENTARY INFORMATION: Small businesses seeking financing from specialized small business investment companies (SBICs) will complete this form for the purpose of demonstrating their eligibility for such financing based on their ownership by individuals who are either socially or economically disadvantaged. Written certification of eligibility is required by the Small Business Investment Act of 1958.

Title: “Financing Eligibility Statement—Social Disadvantage/Economic Disadvantage.”

Description of Respondents: On Occasion.

Form Numbers: 1941A, B, C.

Annual Responses: 80.

Annual Burden: 160.

Send all comments regarding whether this information collection is necessary for the proper performance of the function of the agency, whether the burden estimates are accurate, and if there are ways to minimize the estimated burden and enhance the quality of the collection, to Sandra Johnston, Program Analyst, Office of Financial Assistance, Small Business Administration, 409 3rd Street, 8th Floor, Washington, DC 20416.

FOR FURTHER INFORMATION CONTACT: Sandra Johnston, Office of Financial Assistance, 202-205-7528 sandra.johnston@sba.gov; Curtis B. Rich, Management Analyst, 202-205-7030 curtis.rich@sba.gov.

SUPPLEMENTARY INFORMATION: 13 CFR 120.830 requires CDCs to submit an annual report which contains financial statements and operational and management information. It is used by the district offices, Office of Financial Assistance, and Office of Lender Oversight to obtain information from the CDCs. The 1253 is a valuable tool for SBA to ensure that CDCs are operating according to the statutes, regulations and policies governing the CDC loan program (504 program).

Title: “CDC Annual Report Guide.”

Description of Respondents: On Occasion.

Form Number: 1253.

Annual Responses: 276.

Annual Burden: 7,728.

Send all comments regarding whether this information collection is necessary for the proper performance of the function of the agency, whether the burden estimates are accurate, and if there are ways to minimize the estimated burden and enhance the quality of the collection, to Rachel Karton-Newman, Program Analyst, Office of Small Business Development Centers, Small Business Administration, 409 3rd Street, 6th Floor, Washington, DC 20416.

FOR FURTHER INFORMATION CONTACT: Rachel Karton-Newman, Office of Small Business Development Centers, 202-619-1816 rachel.karton-newman@sba.gov; Curtis B. Rich, Management Analyst, 202-205-7030 curtis.rich@sba.gov.

SUPPLEMENTARY INFORMATION: The Entrepreneurial Development Management Information System (EDMIS) is needed to collect information using a uniform method in order to provide appropriate business counseling and training programs and to report to Congress and the President on these programs. Respondents are small business owners and potential small business owners from throughout the U.S. and the territories also SBA staff and resource partners. policies governing the CDC loan program (504 program).

Title: “Entrepreneurial Development Management Information System (EDMIS) Counseling Information.”

Description of Respondents: On Occasion.

Form Numbers: 641, 888.

Annual Responses: 481,925.

Annual Burden: 54,443.

Send all comments regarding whether this information collection is necessary for the proper performance of the function of the agency, whether the burden estimates are accurate, and if there are ways to minimize the estimated burden and enhance the quality of the collection, to Veronica Dymond, Public Affairs Specialist, Office of Public Commendations and Public Liaison, Small Business Administration, 409 3rd Street, 7th Floor, Washington, DC 20416.

FOR FURTHER INFORMATION CONTACT: Veronica Dymond, Office of Communications and Public Liaison, 202-205-6764 veronica.dymond@sba.gov; Curtis B. Rich, Management Analyst, 202-205-7030 curtis.rich@sba.gov.

SUPPLEMENTARY INFORMATION: Small Business owners or advocate who has been nominated for an SBA recognition award submit this information for use in evaluating nominee's eligibility for an award: Verifying accuracy of information submitted, and determining whether there are any actual or potential conflicts of interest.

Title: “Small Business Administration Award Nomination.”

Description of Respondents: On Occasion.

Form Number: 3300.

Annual Responses: 600.

Annual Burden: 1,200.

Jacqueline White,
Chief, Administrative Information Branch.

[FR Doc. 2010-11063 Filed 5-10-10; 8:45 am]

BILLING CODE 8025-01-P